DEPARTMENT OF JUSTICE

Notice of Lodging of Consent Decree Pursuant to the Clean Water Act

In accordance with Departmental policy; 28 CFR 50.7, notice is hereby given that a proposed amendment to the consent decree in United States v. Quaker State Corporation, Civil Action No. 93-0196W, was lodged with the United States Court for the Northern District of West Virginia on July 18, 2002.

After entry of the decree, Quaker State merged with Pennzoil Corporation to form Pennzoil-Quaker State, the successor to Quaker State. In implementing work required by the original decree in settlement of claims under the Resource, Conservation and Recovery Act (“RCRA”), Pennzoil-Quaker State failed to install control measures required by the Clean Air Act (“CAA”) to prevent or reduce fugitive emissions. It has now agreed to implement the necessary safeguards. The proposed amendment specifies the work to be implemented and the schedule for doing do, and provides for a penalty of $23,250, to be split between the United States and the West Virginia DEP.

The Department of Justice will receive, for a period of thirty (30) days from the date of this publication, comments relating to the proposed consent decree. Comments should be addressed to the Assistant Attorney General for the Environment and Natural Resources Division, Department of Justice, Washington, DC 20530. Each communication should refer on its face to United States v. Quaker State, DOJ #90-5-2-1-1873A.

The proposed consent decree may be examined at the office of the United States Attorney for the Northern District of West Virginia, 1100 Main Street, Suite 200, Wheeling, WV 26003; and the Region III Office of the Environmental Protection Agency, 1650 Arch Street, Philadelphia, PA 19103-2029. A copy of the proposed consent decree may be obtained by faxing a request to Tonia Fleetwood, Department of Justice Consent Decree Library, fax number (202) 616-6584; phone confirmation (202) 514-1547. In requesting a copy, please forward the request and a check in the amount of $2.00 (25 cents per page reproduction cost) payable to the U.S. Treasury, referencing the DOJ Consent Decree Library, United States v. Quaker State, DOJ #90-5-2-1-1873A, to the first-class mail address listed above.

Robert Brook,
Assistant Section Chief, Environmental Enforcement Section, Environment and Natural Resources Division.

[FR Doc. 02-20033 Filed 8-7-02; 8:45 am]

BILLING CODE 4410-15-M